DEPARTMENT OF THE TREASURY

Internal Revenue Service

Open Meeting of the Area 3 Taxpayer Advocacy Panel (Including the States of Florida, Georgia, Alabama, Mississippi, Louisiana, Arkansas and Puerto Rico)

AGENCY: Internal Revenue Service (IRS), Treasury.

ACTION: Notice.

SUMMARY: An open meeting of the Area 3 Taxpayer Advocacy Panel will be conducted in Atlanta, GA. The Taxpayer Advocacy Panel is soliciting public comments, ideas, and suggestions on improving customer service at the Internal Revenue Service.

DATES: The meeting will be held Friday, July 22, 2005 and Saturday, July 23, 2005.

FOR FURTHER INFORMATION CONTACT: Sallie Chavez at 1-888-912-1227 (toll-free), or 954-423-7979 (non toll-free).

SUPPLEMENTARY INFORMATION: Notice is hereby given pursuant to section 10(a)(2) of the Federal Advisory Committee Act, 5 U.S.C. App. (1988) that an open meeting of the Area 3 Taxpayer Advocacy Panel will be held Friday, July 22, 2005, from 8:30 a.m. to 12 p.m. and from 1 p.m. to 5 p.m. ET in the Summit Federal Building, 401 West Peachtree Street, Room 530, Atlanta, GA 30308 and Saturday, July 23, 2005, from 8:30 a.m. to 12 p.m. ET in Atlanta, GA at Marriott Suites Midtown, 35 14th Street, Atlanta, GA 30309. For information or to confirm attendance, notification of intent to attend the meeting must be made with Sallie Chavez. Mrs. Chavez may be reached at 1-888-912-1227 or 954-423-7979 or write Sallie Chavez, 1000 South Pine Island Rd., Suite 340, Plantation, FL 33324, or post comments to the Web site: http://www.improveirs.org.

The agenda will include: Various IRS issues.

Dated: June 21, 2005.
Martha Curry,
Acting Director, Taxpayer Advocacy Panel.

[FR Doc. E5-3308 Filed 6-24-05; 8:45 am]

BILLING CODE 4830-01-P